DEPARTMENT OF COMMERCE

International Trade Administration

[A-570-601]

Tapered Roller Bearings and Parts Thereof, Finished and Unfinished, From the People's Republic of China; Notice of Extension of Time Limit for 1998-1999 Administrative Review

AGENCY: Import Administration, International Trade Administration, Department of Commerce.

ACTION: Notice of Extension of Time Limit.

SUMMARY: The Department of Commerce is extending the time limit for the preliminary results of the twelfth review of the antidumping duty order on tapered roller bearings and parts thereof, finished and unfinished, from the People's Republic of China. The period of review is June 1, 1998 through May 31, 1999. This extension is made pursuant to section 751(a)(3)(A) of the Tariff Act of 1930, as amended by the Uruguay Round Agreements Act.

EFFECTIVE DATE: January 18, 2000.

FOR FURTHER INFORMATION CONTACT: James Breeden, Import Administration, International Trade Administration, U.S. Department of Commerce, 14th Street and Constitution Avenue, N.W., Washington D.C. 20230; telephone (202) 482-1174.

SUPPLEMENTARY INFORMATION: We have determined that this review will require the analysis of additional factors not present in prior reviews. See the January 5, 2000, Memorandum from Deputy Assistant Secretary for AD/CVD Enforcement Richard W. Moreland to Assistant Secretary for Import Administration Robert S. LaRussa on file in the public file of the Central Records Unit, B-099 of the Department. Because it is not practicable to complete this review within the originally anticipated time limit (i.e., March 2, 2000), the Department of Commerce (“the Department”) is extending the time limit for completion of the preliminary results to not later than June 30, 2000, in accordance with section 751(a)(3)(A) of the Tariff Act of 1930, as amended by the Uruguay Round Agreements Act (“the Act”).

We are issuing and publishing this notice in accordance with sections 751(a)(1) and 777(i)(1) of the Act.

Dated: January 6, 2000.
Richard W. Moreland,
Deputy Assistant Secretary for AD/CVD Enforcement.

[FR Doc. 00-1102 Filed 1-14-00; 8:45 am]

BILLING CODE 3510-DS-P